DEPARTMENT OF HOMELAND SECURITY

U.S. Customs and Border Protection

DEPARTMENT OF THE TREASURY

19 CFR Part 12

[CBP Dec. 23-10]

RIN 1515-AE80

Import Restrictions on Ethnological Material of Peru

AGENCY: U.S. Customs and Border Protection, Department of Homeland Security; Department of the Treasury.

ACTION: Final rule.

SUMMARY: This document amends the U.S. Customs and Border Protection (CBP) regulations to reflect the addition of several categories of ethnological material of Peru to the existing import restrictions and to clarify descriptions of certain categories of archaeological and ethnological material of Peru. The United States has entered into an agreement with Peru that supersedes the prior agreement and amends the import restrictions that became effective on June 9, 2022. The restrictions, originally imposed by Treasury Decision 97-50, and recently extended by CBP Decision 22-11 for an additional five-year period, will continue with the addition of these categories of ethnological material through June 9, 2027, and the CBP regulations are being amended to reflect these additions. The Designated List of archaeological and ethnological material of Peru to which the restrictions apply is reproduced below.

DATES: Effective September 13, 2023.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on eligible archaeological and ethnological materials. Under the CPIA and the applicable U.S. Customs and Border Protection (CBP) regulations, found in § 12.104 of title 19 of the Code of Federal Regulations (19 CFR 12.104), the restrictions are effective for no more than five years beginning on the date on which an agreement enters into force with respect to the United States (19 U.S.C. 2602(b)). This period may be extended for additional periods, each extension not to exceed five years, if it is determined that the factors justifying the initial agreement still pertain and no cause for suspension of the agreement exists (19 U.S.C. 2602(e); 19 CFR 12.104g(a)).

In certain limited circumstances, the CPIA authorizes the imposition of restrictions on an emergency basis (19 U.S.C. 2603). The emergency restrictions are effective for no more than five years from the date of the State Party's request and may be extended for three years where it is determined that the emergency condition continues to apply with respect to the covered material (19 U.S.C. 2603(c)(3)). These restrictions may also be continued pursuant to an agreement concluded within the meaning of the CPIA (19 U.S.C. 2603(c)(4)). Additionally, after any agreement enters into force either through an agreement or emergency action, CBP will by regulation promulgate (and when appropriate revise) a list of the archaeological or ethnological material of the State Party covered by the agreement or by such emergency action (19 U.S.C. 2604).

On May 7, 1990, the former United States Customs Service published Treasury Decision (T.D.) 90-37 amending 19 CFR 12.104g(b) to reflect the imposition of emergency restrictions on the importation of archaeological materials from the Sipán Archaeological Regions, forming part of the remains of the Moche culture. Subsequently, on June 27, 1994, the former United States Customs Service published T.D. 94-54, amending 19 CFR 12.104g(b) to reflect the extension of these emergency import restrictions for an additional three-year period.

On June 9, 1997, the United States entered into the “Memorandum of Understanding Between the Government of the United States of America and the Government of the Republic of Peru Concerning the Imposition of Import Restrictions on Archaeological Material from the Pre-Hispanic Cultures and Certain Ethnological Material from the Colonial Period of Peru” (1997 MOU). The 1997 MOU provided for import restrictions on certain categories of archaeological and ethnological material and also continued to include archaeological material then subject to the emergency restrictions.

On June 11, 1997, the former United States Customs Service published T.D. 97-50 in the Federal Register (62 FR 31713), which amended 19 CFR 12.104g(a) to reflect the imposition of these restrictions and included a list designating the types of archaeological and ethnological materials covered by the restrictions. Consistent with the requirements of 19 U.S.C. 2602(b) and 19 CFR 12.104g, these restrictions were effective for a period of five years.

The import restrictions were subsequently extended five times, and the designated list amended twice, in accordance with 19 U.S.C. 2602(e) and 19 CFR 12.104g(a). On June 6, 2002, the former United States Customs Service published T.D. 02-30 in the Federal Register (67 FR 38877), which amended 19 CFR 12.104g(a) to reflect the extension of these import restrictions for an additional period of five years. On June 6, 2007, CBP published CBP Decision (CBP Dec.) 07-27 in the Federal Register (72 FR 31176), which amended 19 CFR 12.104g(a) to reflect the extension of these import restrictions for an additional period of five years. On June 7, 2012, CBP published CBP Dec. 12-11 in the Federal Register (77 FR 33624), which amended 19 CFR 12.104g(a) to reflect the extension of these import restrictions for an additional period of five years. On June 7, 2017, CBP published CBP Dec. 17-03 in the Federal Register (82 FR 26340), which amended 19 CFR 12.104g(a) to reflect the extension of these import restrictions for an additional period of five years and to revise the designated list to reflect the addition of Colonial period documents and manuscripts to the list of ethnological material.

On September 13, 2021, the United States Department of State proposed in the Federal Register (86 FR 50931), to extend the 1997 MOU. On March 15, 2022, after consultation with and recommendation by the Cultural Property Advisory Committee, the Acting Assistant Secretary for Educational and Cultural Affairs, United States Department of State, made the determinations necessary to extend and amend the 1997 MOU. The extension and amendment of the MOU was implemented in two stages. First, the 1997 MOU was extended for an additional five years via an exchange of diplomatic notes, with effect from June 9, 2022. On June 9, 2022, CBP published CBP Dec. 22-11 in the Federal Register (87 FR 34775), which amended 19 CFR 12.104g(a) to reflect the extension of these import restrictions for an additional period of five years.

Second, on September 30, 2022, the Governments of the United States and Peru signed an agreement to include additional categories of ethnographic materials, titled “Agreement Between the Government of The United States of America and the Government of The Republic of Peru Concerning the Imposition of Import Restrictions on Categories of Archaeological and Ethnological Material of Peru” (2022 Agreement). The 2022 Agreement supersedes the 1997 MOU. Following an exchange of diplomatic notes, the 2022 Agreement entered into force on April 27, 2023. Pursuant to the 2022 Agreement, the existing import restrictions on archaeological and ethnological materials remain in effect through June 9, 2027, and the importation of additional categories of ethnological material is restricted through June 9, 2027.

Accordingly, CBP is amending 19 CFR 12.104g(a) to reflect the amendment of the Designated List of cultural property, described in CBP Dec. 17-03, with the addition of certain categories of ethnological material of Peru and clarification of descriptions of pre-Columbian pottery and textile styles, ecclesiastical objects, and prints to which the import restrictions apply. The restrictions on the importation of archaeological and ethnological material will be in effect through June 9, 2027. Importation of such material of Peru, as described in the Designated List below, will be restricted through that date unless the conditions set forth in 19 U.S.C. 2606 and 19 CFR 12.104c are met.

The Designated List and additional information may also be found at the following website address: https://eca.state.gov/cultural-heritage-center/cultural-property-advisory-committee/current-import-restrictions by selecting the material for “Peru.”

Designated List of Archeological and Ethnological Material of Peru

The Designated List contained in CBP Dec. 17-03, is amended to add certain categories of ethnological material of Peru and to clarify descriptions of pre-Columbian pottery and textile styles, ecclesiastical objects, and prints to which the import restrictions apply. For the reader's convenience, CBP is reproducing the Designated List contained in CBP Dec. 17-03 in its entirety with these changes. Note that the Designated List also subsumes those categories of Moche objects from the Sipán Archaeological Region of Peru for which import restrictions have been in place since 1990 (see T.D. 90-37).

The Designated List includes archaeological and ethnological materials. Archaeological material ranges in date from approximately 12,000 B.C. to A.D. 1532. Ethnological material dates to the Colonial period (A.D. 1532—1821) and includes objects directly related to the pre-Columbian past, ecclesiastical objects, and manuscripts and documents.

The list is divided into the following categories of objects:

I. Archaeological Material

A. Pre-Columbian Textiles

B. Pre-Columbian Metals

C. Pre-Columbian Ceramics

D. Pre-Columbian Lithics

E. Pre-Columbian Perishable Remains

F. Pre-Columbian Human Remains

II. Ethnological Material

A. Objects Directly Related to the Pre-Columbian Past

B. Ecclesiastical Objects

C. Colonial Manuscripts, Documents, and Prints

Approximate chronology used to describe cultural periods of Peru.

| Rowe | Lumbreras
A.D. 1532-1821 | Colonial Period/Viceroyalty of Peru
A.D. 1440-1532 | Late Horizon | Inca Empire.
A.D. 1100-1440 | Late Intermediate Period | Regional states and kingdoms.
A.D. 600-1100 | Middle Horizon | Huari (Wari) Empire.
200 B.C.-A.D. 600 | Early Intermediate Period | Regional Cultures.
1000-200 B.C | Early Horizon | Middle and Late Formative.
1800-1000 B.C | Initial Period | Early Formative.
2500-1800 B.C | Late Pre-ceramic | Late Archaic.
4500-2500 B.C | Middle Pre-ceramic | Middle Archaic.
6000-4500 B.C | Early Pre-ceramic | Early Archaic.
12,000-6000 B.C | Early Pre-ceramic | Hunter-Gatherers.

I. Archaeological Material

A. Pre-Columbian Textiles

Examples of pre-Columbian textiles include, but are not limited to, the following:

1. Chimú

a. Pillows—Piece of cloth sewn into a bag shape and stuffed with cotton or plant fibers. Generally, the cloth is made in tapestry technique. Usually 60 cm. x 40 cm.

b. Painted Cloths—Flat cloth of cotton on which designs are painted. Range between 20 cm. and 6.1 m.

c. Headdresses—Headdresses are usually made of feathers, especially white, green, and dark brown, which are attached to cloth and fitted to a cane or basketry frame. Feathers on the upper part are arranged to stand upright.

d. Feather Cloths—Decorated with bird feathers, especially panels and tunics. They vary in shape and size; generally they depict geometric motifs and volutes. Vary from 20 cm.-3 m. in length, and may be up to 1.5 m. in width.

e. Panels—Chimú panels may be of two types: tapestry weave or plain-weave cotton. Isolated anthropomorphic designs predominate and may be associated with zoomorphic motifs. Vary from 20 cm. x 20 cm. to 2.0 m. x 1.8 m.

f. Belts and Sashes—Generally made in tapestry technique, and predominantly of red, white, ocher, and black. As with other Chimú textiles, they generally depict human figures with rayed headdresses. Up to 2.20 m. in length.

2. Chancay

a. Looms—Commonly found in Chancay culture, sometimes with pieces of the textile still on the loom. Often these pieces of cloth show varied techniques and are referred to as “samples.” Usually 50 cm. x 20 cm.

b. Loincloths—Triangular panels of cloth with woven tapestry borders.

c. Dolls—Three dimensional human figures stuffed with plant fiber to which hair and other decorations are added. Sometimes they depict lone females; in other cases they are arranged in groups. Most importantly, the eyes are woven in tapestry technique; in fakes, they have embroidered features. Usually 20 cm. tall and 8 cm. wide.

d. False Heads—In Chancay culture, false heads are made on a cotton or plant fiber cushion covered with plain-weave cloth, decorated with shells, beads, metal, wood, or painting to depict facial features. They sometimes have real hair. Usually 30 cm. x 35 cm.

e. Unkus/Tunics—Varied sizes and styles. Some are in plain weave, others in gauze, still others are in tapestry technique or brocade. They are recognized by their iconography such as geometric motifs, birds, fish, plants, and human figures. Miniatures are tiny; regular size examples are about 50 cm. x 50 cm.

f. Belts—Chancay belts are multicolored, with geometric motifs rendered in tapestry technique. Sometimes the ends are finished in faux-velour technique. Usually 2 m. x 5 cm.

g. Panels—Chancay panels may be made in tapestry technique or may be painted on plain weave cloth. In these latter cases, the panels may depict fish, parrots, monkeys, viscachas, felines, foxes, and human figures. Vary in size from miniatures to 4 m. x 2 m.

h. Standards—Chancay standards are supported on a frame of straight reeds covered with cotton cloth, which is painted in anthropomorphic designs in ochers and black. Sometimes they have a handle. Usually 20 cm. x 20 cm.

i. Gauzes—Pieces of cloth made in openwork gauze technique, with very fine cotton threads. May have embroidered designs in the same thread that depict birds or other flora and fauna. Usually 80 cm. x 80 cm.; some are smaller.

3. Nazca

a. Three-Dimensional Cloths—Figures of many bright colors needle-knitted into long strips. Motifs include, but are not limited to, birds, flowers, humans, and mythical figures. Each figure is approximately 5 cm. long x 2 cm. wide.

b. Unkus/Tunics—These include miniature and regular-sized tunics. They are generally of one color, mostly light brown. The neck edges, hem, and fringes have multicolored geometric designs. Fringes end in woven braids. Vary in size from miniatures up to approximately 1.5 m. x 0.8 m.

c. Bags—There are bags of many sizes, from miniatures to large ones, generally with a narrow opening and a wide pouch. Some are decorated with fringe. Their iconography resembles the unku (tunic), stylized designs in yellow, red, and dark and light blue.

d. Sashes—Nazca sashes are made on special looms. Their ends are decorated with plied fringe.

e. Tie-Dye (Painted) Cloths—Most common are those made in the tie-dye technique, in which the textile is knotted and tied before it is dyed, so that when it is untied, there are negative images of diamonds, squares, and concentric dots. Most common are orange, red, blue, green, and yellow colors. Vary from approximately 20 cm. x 20 cm. to 2.0 m. x 1.8 m.

f. Patchwork Cloths—Variant of the Tie-Dye cloth, in which little panels are made and later sewn together so that the resulting textile includes rectangles of tie-dyed panels of different colors. The cloth may have a decorative fringe. Vary from 20 cm. x 20 cm. to 2.0 m. x 1.8 m.

g. Waras/Loincloths—Generally made of a flat piece of cloth with colorful borders depicting stylized geometric motifs. They terminate in fringe. Usually 50 cm. x 30 cm.

h. Fans—Feathers inserted into a plant fiber frame of twisted cords. Commonly two colors of feathers are attached, such as orange and green, or yellow and blue. Usually 30 cm. x 20 cm.

4. Huari (Wari)

a. Panels—Characterized by a complex and abstract iconography. Made in tapestry technique with a range of colors such as browns, beiges, yellows, reds, oranges, and greens. Vary from 20 cm. x 20 cm. to 2.0 m. x 1.8 m.

b. Unkus/Tunics—Large with abstract and geometric iconography. Commonly the designs repeat in vertical bands. Generally, tunics have a cotton warp and camelid fiber weft. Some are so finely woven that there are 100 threads per cm². Vary in size from miniatures up to 1.5 m. x 80 cm.

c. Caps—Most common are the “four-corner hats” made in a faux-velour technique that results in a velvety texture. On the base cloth, small tufts of brightly-colored wool are inserted.

d. Vinchas/Headbands or Sashes—These garments are made in tapestry weave or faux-velour technique and depict geometric motifs.

e. Bags—Bags have an opening somewhat narrower than the body, with designs depicting felines, camelids, human faces, and faces with animal attributes.

5. Paracas

a. Esclavinas/Small Shoulder Ponchos—Paracas esclavinas are unique for their decoration with brightly-colored images in Paracas style, such as birds, flowers, animals, and human figures. Vary in size from miniatures up to 60 cm. x 30 cm.

b. Mantles—Paracas mantles can be divided into five types, based on their decoration. All are approximately 2.5 m. x 1.6 m.

i. Mantles with a plain field and woven borders;

ii. Mantles with decorative (embroidered) borders and plain field;

iii. Mantles with decorative (embroidered) borders and a decorative stripe in the center field;

iv. Mantles with embroidered borders and center field embroidered in checkerboard-fashion;

v. Mantles with embroidered borders and alternating diagonals of embroidered figures in the center field.

c. Gauzes—Paracas gauzes are made of one color, such as lilac, yellow, red, or gray. They are generally rectangular and have a soft and delicate texture. Approximately 1 m. x 1 m.

d. Panels—Paracas panels are generally of cloth and may have been used for utilitarian purposes. They are generally undecorated. Vary from 20 cm. x 20 cm. to 2 m. x 1.8 m.

e. Skirts—Paracas skirts are of two types: some are plain, made of cotton with decoration reserved for the ends; there are others that are elaborately embroidered with colorful images rendered in wool. These often form sets with mantles and other garments. Skirts are rectangular and very wide, with two fringed ties. Usually 3 m. long and 70 cm. wide.

f. Waras/Loincloths—Made of cotton, not as large as skirts, and may have embroidered edges.

g. Slings—Paracas slings are decorated in Cavernas style, made of plant fiber, and are of small size, generally 1.5 m. x 5 cm.

h. Furs—There are numerous examples of animal skins reported from Paracas contexts, including, but not limited to, the skins of the fox, viscacha, and guinea pig. Most are poorly preserved.

6. Moche

a. Bags—Moche bags are usually square, small, and have a short handle. They are made in tapestry technique with brightly-woven designs. Principal colors used are white, black, red, light blue, and ocher.

b. Panels—Recognizable by their iconography, these tapestry-technique panels may show people on balsa-reed rafts surrounded by a retinue. They are rendered in a geometric fashion and are outlined in black and shown in profile. Scenes of marine life and fauna predominate. Vary from 20 cm. x 20 cm. to 2 m. x 1.8 m.

c. Ornamental Canes—Small canes are “woven” together in a twill technique using colorful threads that depict anthropomorphic designs. Approximately 10 cm. x 10 cm.

7. Lambayeque Panels—Lambayeque panels are small, made in tapestry technique, of cotton and wool. Vary from 20 cm. x 20 cm. to 2 m. x 1.8 m.

8. Inca

a. Slings—There are two types of Inca slings. Ceremonial slings are oversize and elaborately decorated with geometric motifs, with long fringes. Utilitarian slings are smaller and almost always with decoration only on the pouch and far ends. The decoration is geometric and the slings have fringed ends.

b. Unkus/Tunics—Inca tunics are well-made and colorful, mostly in red, olive green, black, and yellow. Decorative elements may be arrayed checkerboard fashion and are found on the upper and lower part of the garment. Vary in size from miniatures up to approximately 1.5 m. x 80 cm.

c. Bags—Recognized by their bright colors, they have an opening that is narrower than the body and a wide pouch with long fringe and handle. Vary in size from miniatures up to 30 cm. x 20 cm.

d. Panels—Some are made of cotton using the double-cloth technique, based on light brown and beige. Lines of geometrically-rendered llamas predominate. Vary in size from 20 cm. x 20 cm. to 2 m. x 1.8 m.

e. Mantles—Inca mantles are of standard dimensions, sometimes more than a meter long, generally rectangular. They are multi-colored and made of cotton warp and wool weft. Most common colors are dark red, olive green, white, and black. Generally 2.5 m. x 1.6 m.

f. Khipus/Quipus—Inca khipus (knotted string recording devices) are made of cotton and wool cords, sometimes with the two fibers plied together. Rarely is their original color preserved, though sometimes one sees light blues and browns. Some are wrapped with colorful threads on the ends of the cords. 80 cm. x 50 cm.

9. Chiribaya Tunics, Bags, Panels, and Hats—Chiribaya textiles are mostly plain-weave warp-faced technique with complementary warps made with wool yarn in natural colors such as dark brown, black, white, and beige; and dyed yarn in red, green, or blue. The natural-colored yarns are usually weft yarns, and the dyed yarns appear as warp yarns. Designs include, but are not limited to, simple or alternating vertical stripes of varied widths with hook and rhombus designs, snakes, two-headed felines, and an anthropomorphic creature with human, cat, and lizard features.

10. Chuquibamba

a. Ponchos, Mantles, and Tunics—Chuquibamba ponchos and tunics are made of camelid fibers and decorated with tapestry and weft-patterned geometric patterns and figures inset in squares occurring in horizontally divided vertical stripes. Mantles and shawls may have fold lines and zones of different patterns. Designs typically are eight pointed stars, birds, snakes, cats, frogs, and llamas.

b. Loincloths—Small rectangular cloths with four ties on the longer sides. Designs are in patterned bands, and some have end borders or patterned bands in the center.

c. Belts—A long, narrow textile with ties at each end. Belts usually have a single-colored background with designs in a rectangular grid. Some belts are two layers of fabric seamed together to form a pouch with an opening in the upper side.

d. Bags—Large and small square or trapezoidal bags are created from a single rectangle of fabric, folded with seamed sides, with cords attached at the mouth, and sometimes the bottom corners, to form straps. May have lavish fringe hanging from the bottom edge. Finely woven tapestry or weft-pattern designs are typically in bands or within squares.

11. Sihuas

a. Mantles, Tunics, and Panels—Cotton and camelid fibers in highly varied weaving techniques such as warp-face, slit tapestry, cross-looping, and tubular edging. Designs include the Rayed Head, Step Platform, anthropomorphic, zoomorphic, and geometric designs, often with zig-zagging lines and borders. May have stripes of alternating colors. Designs may be woven or tie-dyed. Colors often are red, blue, green, and yellow. May have long fringes.

B. Pre-Columbian Metal Objects

Examples of pre-Columbian metal objects include, but are not limited to, the following:

1. Idols—Anthropomorphic or zoomorphic figures, some hollow and others solid. They may be made of gold and silver, they may be gilded, or of copper, or bronze. Sizes vary from 2 cm.-20 cm. in height.

2. Small Plaques—Thin sheets of gold, silver, copper, or gilded copper used to cover the body and made in pieces. They have repoussé or punched designs on the edge and middle of the sheet. Average 0.6 cm in height.

3. Axes—Almost always T-shaped and solid. There are also axes in a traditional axe-head shape. May be made of bronze or copper.

4. Mace Heads—These come in a great variety of shapes such as star-shaped, flat, or of two or three levels. They may be made of copper or bronze. Most have a central hole through which a wooden handle was affixed.

5. Musical Instruments

a. Trumpets—Wind instrument with a tubular body and flaring end, fastened at the joint. May be made of copper or bronze.

b. Bells—Of varying shapes and varying materials such as gold, silver, copper, or silver-plated copper.

c. Conos—Instrument shaped from a sheet of hammered metal, with or without a clapper. Commonly made of copper or silver. Up to 0.5 m. in height.

d. Rattles—Musical instrument with a central hole to accommodate a handle. May be made of copper or bronze. Vary from 6 cm.-25 cm. in height.

e. Jingle Bells—Spherical bells with an opening on the lower part and a handle on the upper part so they can be suspended from a sash or other garment. They contain a small stone or a little ball of metal. The handles may be decorated. Jingle bells may decorate another object, such as rhythm sticks, and may be of gold, silver, or bronze. Used in all pre-Columbian cultures of Peru.

f. Chalchachas—Instruments shaped like a bivalve with repoussé decoration. Made of copper.

g. Quenas (flutes)—Tubular instruments, generally made of silver, with perforations to vary the tone.

6. Knives—Knives vary depending on their provenance. They can have little or no decoration and can be of different metals or made of two metals. The best-known are the tumis from the Sicán culture, which have a straight or trapezoidal handle and a half-moon blade. The solid handle may have carved or stamped designs. Generally made of gold, silver, or copper. In ceremonial examples, the blade and upper part may depict an anthropomorphic figure standing or seated, or simply a face or mask with an elaborate headdress, earspools, and inset semi-precious stones. Tumi handles can be triangular, rectangular, or trapezoidal, and blades can be ovaloid or shaped like a half-moon.

7. Pins—With a straight shaft and pointed end, pins can be flat or cylindrical in cross-section. Most are hammered, and some are hollow. They can be made of gold, silver, copper, bronze, gold-plated silver, or of two metals. Some pins are zoomorphic, others have floral images, and still others depict fish. Some have a round head; others have a flat, circular head; still others have the shape of a half-moon. There are hollow-headed rattle pins; others have solid anthropomorphic images. Most are up to 50 cm. in length, with heads that are up to 10 cm. in diameter. The small pins are about 5 cm. in length.

8. Vessels—There are a variety of metal vessels; they may be made of gold, silver, gilded silver, gilded copper, silver-covered copper, or bronze. There are miniatures, as well as full-size vessels. Such vessels are known from all cultures. Often formed as beakers, bowls, open plates, globular vessels, and stirrup-spout bottles. The exact form and surface decoration varies from culture to culture. Shapes include, but are not limited to beakers, bowls, and plates. Average 0.3 m.-0.5 m. in height.

9. [Reserved]

10. Masks—May be made of gold, silver, gilded silver, copper, gilded copper, silver-covered copper, or may be made of two metals. They vary greatly in shape and design. The best-known examples come from the following cultures: Moche, Sicán, Chimú, Huari (Wari), Inca, Nazca, and Chincha. The northern coast examples often have insets of shell, precious or semi-precious stones, and may have plant resins to depict the eyes and teeth. Almost all examples that have not been cleaned have a surface coloring of red cinnabar. Examples from Sicán measure up to 49 cm. in width by 29 cm. in height. Miniature examples can measure 7 cm. x 5 cm. Miniature masks are also used as decorations on other objects. Copper examples generally show heavy oxidation.

11. Crowns—Thin or thick sheets of metal made to encircle the head. They may be made of silver, gold, copper, gilded silver, silver-covered copper, or may be made of two metals. Some examples have a curved central part and may be decorated with pieces of metal and real or artificial feathers that are attached with small clamps. Found in all cultures.

12. Penachos (Stylized Metal Feathers)—Stylized metal feathers used to decorate crowns. May be made of gold, silver, copper, or silver-covered copper.

13. Tocados (Headdresses)—Headdress ornaments which may be simple or complex. They may be made of one part, or may include many pieces. Found in all cultures. They may take the form of crowns, diadems, or small crowns. They may have two stylized feathers to decorate the crown and to hold it to the hair (especially the Chimú examples). Paracas examples generally have rayed appendages, with pierced disks suspended from the ends of the rays.

14. Turbans—Long pieces of cloth that are wrapped around the head. Metal ornaments may be sewn on turbans. Found in all cultures; the metal decorations and the cloth vary from culture to culture.

15. Spoons—Utilitarian objects made of gold, silver, or copper.

16. Lime Spatulas—Miniature spatula: a straight handle has a slightly spoon-shaped end. The handle may have an anthropomorphic figure. Made of gold, silver, or copper.

17. Ear Spools—Ear spools are generally made of a large cylinder that fits through the earlobe with an even larger disk or decorative sheet on one side. The disk may be decorated with repoussé, stamped, or engraved designs, or may have inset stone or shell. May be made of gold, silver, copper, or made of two metals. Ear spools are found in all cultures. The largest measure up to 15 cm. height; typical diameter: 5 cm.-14 cm.

18. Nose Ornaments—Of varied shapes, nose ornaments can be as simple as a straight tube or as complex as a flat sheet with repoussé design. In the upper part, there are two points to attach the ornament to the septum. They may be of gold, silver, or copper, or may be made of two metals.

19. Earrings—Decoration to be suspended from the earlobes.

20. Rings—Simple bands with or without designs. Some are two bands united by filigree spirals. Some have inset stones. May be made of silver, gold, copper, or alloys.

21. Bracelets—Bracelets are made of sheets of metal, commonly in a straight or slightly trapezoidal shape, with stamped or repoussé designs. Some are simple, narrow bands. Found in all cultures and with varied designs. May be made of gold, silver, bronze, or alloys of copper. Generally 4 cm.-14 cm. in width.

22. Necklaces—Necklaces are made of beads and/or small carved beads. May be made of shell, bone, stone, gold, silver, copper, or bronze. The beads are of varied shapes. All beads have two lateral perforations to hold the cord.

23. Tweezers—Made in one piece, with two identical ends and a flexed central handle. They typically are triangular, trapezoidal, and ovaloid in shape. The middle of the handle may have a hole so the tweezers can be suspended from a cord.

24. Feather Carriers—Conical objects with a pointed, hollow end, into which feathers, llama skin, or monkey tails are inserted and held in place with tar. They may be made of gold, silver, or gilded or silver-plated copper.

C. Pre-Columbian Ceramics

Examples of pre-Columbian ceramics include, but are not limited to, the following:

1. Chavín

a. Date: 1200-200 B.C.

b. Characteristics:

i. Decoration: A gray-black color. Incised, modeled, and high and low-relief are combined to work out designs in grays and browns. The surface may also juxtapose polished and matte finish in different design zones.

ii. Forms: Bottles, plates, and bowls.

iii. Size: Generally 5 cm.-30 cm.

iv. Identifying: Characteristic traits of Cupisnique and Chavín ceramics are globular body with a flat base and stirrup spout; thick neck with an obvious and everted lip. Chavín style also includes long-necked bottles, bowls with flaring walls, and highly-polished relief-decorated surfaces.

v. Styles: Chavín influence is seen in Cupisnique, Chongoyape, Poemape, Tembladera, Patapo, and Chilete styles.

2. Vicús

a. Date: 900 B.C.-A.D. 500

b. Characteristics:

i. Decoration: Geometric designs in white on red, made using negative technique. There are also monochrome examples.

ii. Forms: Anthropomorphic, zoomorphic, and plant-shaped vessels. Some have a double body linked by a tube or common opening.

iii. Size: Generally 30 cm.-40 cm. tall.

3. Virú or Gallinazo

a. Characteristics:

i. Decoration: Negative technique over orange background.

ii. Forms: Faced anthropomorphic and zoomorphic vessels, face bottles for daily use in dwellings, and “cancheros” (type of pot without a neck and with a horn-shaped handle).

iii. Size: Up to 15 cm. tall.

iv. Identifying: The surface is basically orange; the vessels have a truncated spout, an arched bridge (like a tube) as handle, and geometric symbols in negative technique (concentric circles, frets and wavy lines). When the vessels represent a face, the eyes are like “coffee beans,” applied on the surface and with a transverse cut.

4. Pucara

a. Date: 300 B.C.-A.D. 300.

b. Characteristics:

i. Decoration: Slip-painted and incised. Modeled elements include stylized felines and camelids, along with an anthropomorphic image characteristically depicted with a staff in each hand. Vessels are typically decorated in yellow, black, and white on the red background of the vessel. Designs are characteristically outlined by incision. There may be modeled decoration, such as feline heads, attached to the vessels.

ii. Shapes: Tall bowls with annular ring bases predominate, along with vessels that depict anthropomorphic images.

iii. Size: Bowls are up to 20 cm. in diameter and 20 cm. in height.

5. Paracas

a. Date: Developed around 200 B.C.

b. Characteristics:

i. Vessels are typically incised, with post-fired resin painting on a black background.

ii. Size: 10 cm.-15 cm. tall.

6. Nazca

a. Date: A.D. 100-600.

b. Characteristics:

i. Color: Typically very colorful, with a range of slips including cream, black, red, violet, orange, gray, all in a range of tones.

ii. Slip: Background slip is generally cream or orange.

iii. Shapes: Cups, bowls, beakers, plates, double-spout-and-bridge bottles, anthropomorphic figures, and musical instruments.

iv. Decoration: Realistic drawings of fantastic creatures, including the “Flying God.” In late Nazca, bottles are broader and flatter and the designs are arrayed in broad bands. Typically have decorations of trophy heads, geometric motifs, and painted female faces.

v. Size: Generally 5 cm.-20 cm.

7. Recuay

a. Date: A.D. 100-700.

b. Characteristics:

i. Slip: Both positive and negative slip-painting is found, generally in colors of black, cream and red.

ii. Shapes: Sculptural, especially ceremonial jars known as “Paccha”, which have an elaborate outlet to serve a liquid.

iii. Decoration: Usually show groups of religious or mythical personages.

iv. Size: Generally 20 cm.-35 cm. in height.

8. Pashash

a. Date: A.D. 1-600.

b. Characteristics:

i. Decoration: Positive decoration in black, red, and orange on a creamy-white background. Some show negative painting.

ii. Shapes: Anthropomorphic vessels, bottles in the form of snakes, bowls with annular base, and large vessels with lids.

iii. Size: The anthropomorphic vessels are up to 20 cm. in height, serpent bottles are around 25 cm. wide x 10 cm. tall, and lidded vessels are more than 30 cm. in height.

iv. Motifs: The decorations are rendered in positive or negative painting in zones that depict profile-face images of zoomorphic figures, serpents, or worms, seen from above and with trapezoidal heads.

9. Cajamarca

a. Date: A.D. 500-900.

b. Characteristics:

i. Decoration: Pre-fired slip-painting with geometric designs such as stepped triangles, circles, lines, dots, and rows of volutes. They may include, but are not limited to, stylized birds, felines, camelids, batrachians, and serpents. Spiral figures may include a step-fret motif in the base of the bowls.

ii. Shapes: Pedestal base bowls, tripod bowls, bottles with annular ring base, goblets, spoons with modeled handles, and bowls with carinated edges.

10. Moche

a. Date: A.D. 200-700.

b. Characteristics:

i. Forms: Stirrup-spout vessels, vessels in the shape of humans, animals, or plants.

ii. Colors: Generally red and white.

iii. Manufacture: Often mold-made.

iv. Size: Generally 15 cm.-25 cm. in height.

v. Decoration: Wide range of images showing scenes of real life or mythical scenes depicting gods, warriors, and other images.

11. Tiahuanaco (Tiwanaku)

a. Date: A.D. 200-700.

b. Characteristics:

i. Decoration: Pre-fired slip-painting on a highly polished surface. Background is generally a red-orange, with depictions of human, animal, and geometric images; generally outlined in black and white lines.

ii. Shapes: Plates, cups, jars, beakers, open-backed incense burners on a flat base.

12. Lima

a. Date: A.D. 200-700.

b. Characteristics:

i. Decoration: Pre-fired slip-painting with interlocking fish and snake designs, and geometric motifs such as zig-zags, lines, circles, and dots.

ii. Shapes: Breast-shaped bottles, cups, plates, bowls, and cook pots.

iii. Styles: Related to Playa Grande, Nievera, and Pachacamac styles.

13. Huari (Wari)

a. Date: A.D. 500-1000.

b. Characteristics:

i. Colors: Orange, cream, violet, white, black, and red.

ii. Motifs: Anthropomorphic, zoomorphic, and plant shapes, both stylized and realistic. In Pachacamac style one finds vessels with a globular body and long, conical neck. In Atarco style, there is slip-painting that retains Nazca motifs, especially in the full-body felines shown running.

iii. Slip: Background slip is commonly cream, red, or black.

iv. Styles: Related to Vinaque, Atarco, Pachacamac, Qosqopa, Robles Moqo, Conchopata, and Caquipampa styles.

v. Size: Most are around 25 cm. tall. Robles Moqo urns may be up to 1 m. in height.

14. Santa

a. Date: Derived from Huari (Wari) style, around A.D. 800.

b. Characteristics:

i. Decoration: Slip-painted with figures and designs in black and white on a red background. There are also face-neck jars.

ii. Shapes: Effigy vessels, face-neck jars, double-body vessels.

iii. Sizes: Generally 12 cm.-20 cm. tall.

iv. Shapes: Jars have a globular body and face on the neck. The border may have black and white checkerboard. The body sometimes takes the shape of a stylized llama head. Common are white lines dotted with black. Double-body vessels generally have an anthropomorphic image on the front vessel, and a plain back vessel.

15. Chancay

a. Date: A.D. 1000-1300.

b. Characteristics:

i. Treatment: Rubbed surface.

ii. Slip: White or cream with black or dark brown designs.

iii. Molds: Molds are commonly used, especially for the anthropomorphic figures called “cuchimilcos,” which represent naked male and female figures with short arms stretched to the sides.

iv. Size: 3 cm.-1 m.

16. Ica-Chincha

a. Date: Began to be developed in A.D. 1200.

b. Characteristics:

i. Decoration: Polychrome painting in black and white on red.

ii. Designs: Geometric motifs combined with fish and birds.

iii. Shapes: Bottles with globular bodies and tall necks and with flaring rims. Cups and pots.

iv. Size: Generally 5 cm.-30 cm. high.

17. Chimú

a. Date: A.D. 900-1500.

b. Characteristics:

i. Slip: Monochrome. Usually black or red.

ii. Shapes: Varied shapes. Commonly made in molds. They may represent fish, birds, animals, fruit, people, and architectural forms. One sees globular bodies with a stirrup spout and a small bird or monkey at the base of the neck.

iii. Size: Between 30 cm.-40 cm. in height.

18. Lambayeque

a. Date: A.D. 700-1100.

b. Characteristics:

i. Color: Generally black; a few are cream with red decoration.

ii. Shapes: Double spout and bridge vessels on a pedestal base are common. At the base of the spout one sees modeled heads and the bridge also often has modeled heads.

iii. Size: 15 cm.-25 cm. in height.

19. Inca

a. Date: A.D. 1300-1500.

b. Characteristics:

i. Decoration: Slip-painted in black, red, white, yellow, and orange.

ii. Designs: Geometric designs (rhomboids and triangles) and stylized bees, butterflies, and animals.

iii. Sizes: 1 cm. to 1.5 m. in height.

20. Chiribaya

a. Date: A.D. 1000-1476.

b. Characteristics:

i. Shapes: Bowls, cups, beakers, urns, jars, bottles, and pitchers.

ii. Decoration: Polychrome geometric pattern motifs in red, white, cream, black, orange, and brown. White dots are common.

21. Chuquibamba

a. Date: A.D. 1000-1476.

b. Characteristics:

i. Shapes: Pumpkin-shaped bowls, cups, canteens, and ceramic slabs.

ii. Decoration: Dark red slip decorated with black lines and polychrome paint. Linear designs include, but are not limited to camelids, birds, eight-pointed stars, cross-hatched and angular designs, sometimes delimited with rectangles. Slabs are decorated with geometric designs and anthropomorphic and zoomorphic figures.

22. Teatino

a. Date: A.D. 600-1000.

b. Characteristics:

i. Shapes: Open and closed vessels including mammiform jugs, canteens, spherical jars, and tripod vessels.

ii. Decoration: Reddish brown paste decorated with engraving, incising, and punctation.

23. Pativilca

a. Date: A.D. 600-1000.

b. Characteristics:

i. Shapes: Jugs and bottles.

ii. Decoration: Orange monochrome mold-made pottery. Molds created stamped designs of monkeys, toads, birds, and anthropomorphic mythical creatures.

24. Huaura

a. Date: A.D. 600-1000

b. Characteristics:

i. Shapes: Cups, jars, and plates.

ii. Decoration: Red to orange paste decorated with polychrome geometric, anthropomorphic, and zoomorphic designs.

D. Pre-Columbian Lithics

Examples of pre-Columbian lithics include, but are not limited to, the following:

1. Chipped Stone: Projectile Points

a. Paiján Type Points

i. Size: Generally 8 cm.-18 cm.

ii. Shape: Triangular or heart-shaped.

iii. Color: Generally reddish, orange, or yellow. Can be made of quartz.

b. Leaf-Shaped Points

i. Size: Generally 2.5 cm.-15 cm.

ii. Shape: Leaf-shaped. Can be ovaloid or lanceolate.

iii. Color: Generally bright reds, yellows, ochers, quartz crystals, milky whites, greens, and blacks.

c. Paracas Type Points

i. Size: 0.3 cm.-25 cm.

ii. Shape: Triangular and lanceolate. Show marks of pressure-flaking. Often they are broken.

iii. Color: Generally black.

d. Chivateros Type Blanks

i. Size: Generally 0.8 cm.-18 cm.

ii. Shape: Concave indentations on the surface from working.

iii. Color: Greens, reds, and yellows.

2. Polished Stone

a. Bowls—Vessels of dark colored-stone, sometimes streaked. They have a highly polished, very smooth surface. Some show external carved decoration. Diameters range from 12 cm-55 cm.

b. Cups—Vessels of dark-colored stone. Generally, have flaring sides. Typical of the Late Horizon. They are highly polished and may have external carved designs or may be in the shape of heads. 18 cm.-28 cm. in height.

c. Conopas—Small vessels in the form of camelids with a hollow opening on the back. They are black to greenish-black and highly polished. 0.8 cm.-16 cm. in length.

d. Idols—Small anthropomorphic figurines, frequently found in Middle Horizon contexts. The almond-shaped eyes with tear-bands are characteristic of the style. Larger examples tend to be of lighter-colored stone while the smaller ones are of dark stones. 12 cm.-28 cm. in height.

e. Mace Heads—Varying shapes, most commonly are doughnut-shaped or star-shaped heads, generally associated with Late Intermediate Period and Inca cultures. Commonly black, gray, or white, 0.8 cm.-20 cm. in diameter.

f. Metalworking Hammers—Elongated shapes, frequently with one flat surface; highly polished. Generally, of dark-colored stone, 3 cm.-12 cm.

3. Carved Material

a. Tenon Heads—These heads have an anthropomorphic face, prominent lips, and enormous noses. Some, especially those carved of diorite, have snake-like traits. The carved surface is highly polished.

b. Tablets—With high-relief design. The upper surface has a patina. They range from 20 cm. to more than 1 m. in length.

E. Pre-Columbian Perishable Remains

Examples of pre-Columbian perishable remains include, but are not limited to, the following:

1. Wood

a. Keros (Beakers)—The most common form is a bell-shaped beaker with a flat base, though some have a pedestal like a goblet. Decoration varies with the period:

i. Pre-Inca: Very rare, they have straight sides and incised or high-relief decoration. Some have inset shells.

ii. Inca: Generally, they are incised with geometric designs on the entire exterior.

iii. Colonial Inca: Lacquer painted on the exterior to depict scenes of daily life, nature, and war.

b. Staffs—Objects of ritual or ceremonial use made of a single piece of wood. They can be distinguished on the basis of two or three of the following traits:

i. On the lower third, the staff may have a metal decoration.

ii. The body itself is cylindrical and of variable length.

iii. The upper third may have decorations such as inset shell, stone, or metal. Some staffs function as rattles and, in these cases, the rattle is in the upper part.

c. Carvings—Worked blocks of wood, such as wooden columns (orcones) to support the roofs of houses: Prevalent in Chincha, Chimú, and Chancay cultures. Individuals may be depicted standing or seated on a pedestal. In the upper part there is a notch to support the beams, which generally has a face, sometimes painted, at the base of the notch. Their length varies, but they are generally at least a meter or more.

d. Boxes—Small lidded boxes, carved of two pieces of wood. Generally the outer surface of the box and lid are carved in relief. Prevalent in Chimú-Inca cultures. They measure approximately 20 cm. x 10 cm.

e. Mirrors—Wooden supports for a reflective surface of polished anthracite or pyrite. In some cases the upper part of backs of mirrors are worked in relief or have insets of shell. Prevalent in Moche culture.

f. Paddles and Rudders—Large carvings made of a single piece of wood. Paddles have three parts: the blade, the handle (sometimes decorated), and an upper decorated part, which can have metal plaques or decorative painting. Rudders have two parts: the blade and the handle, which may be carved in relief. Prevalent in Chincha culture. Paddles can be 2.30 m. in length and rudders are up to 1.4 m.

g. Utensils—Bowls and spoons made of wood decorated with zoomorphic or anthropomorphic motifs.

h. Musical Instruments—Trumpets and whistles. Trumpets can be up to 1.2 m. long and are generally decorated on the upper third of the instrument. Whistles vary a great deal, from the undecorated to those decorated with human forms. Prevalent in Moche, Huari (Wari), and Inca cultures.

2. Bone

a. Worked Bone—Tools, ornaments, and other items made from bone. Examples include, but are not limited to weaving tools, spoons, ornaments, and Chavín pieces with incised decorations. The bones are generally the long bones of mammals. They vary from 10 cm.-25 cm. in length.

b. Balance Weights—Flat rectangles of bone about 10 cm. in length. Prevalent in Chincha culture.

c. Musical Instruments—Quenas (flutes) and antaras (panpipes) in various shapes. Prevalent in Paracas, Chincha, and Ancon cultures.

3. Gourds

a. Vessels—Bowls, pots, and holders for lime (for coca chewing). May have carved or pyro-engraved decoration. Produced from the Preceramic onward.

b. Musical Instruments—Ocarinas, small flutes, and whistles. Inca examples may have incised decoration or decoration with cords and feathers.

4. Canes

a. Musical Instruments—Flutes (especially in Chancay culture), panpipes, and whistles. Flutes are often pyro-engraved. Panpipes can have one or two tiers of pipes, which may be lashed together with colored thread. Prevalent in Nazca culture.

5. Straw Weaving Baskets—Basketry over a cane armature, in the shape of a lidded box. Sometimes the basketry is made of several colors of fiber to work out geometric designs. Some still hold their original contents: needles, spindle whorls, spindles, balls of thread, loose thread, etc. Prevalent in Chancay culture.

6. Shell

a. Musical Instruments—Instruments made from marine shells such as Strombus galeatus, Malea ringens, etc. Some, especially those from the Formative Period, with incised decoration.

b. Jewelry—Small beads and charms worked of shell, chiefly Spondylus princeps, used mainly in necklaces and pectorals. Prevalent in Moche, Chimú, and Inca cultures.

7. False Shrunken Heads—False shrunken heads can be recognized because they are made of the skin of a mammal, with some of the fur left where the human hair would be. The skin is first smoked, then pressed into a mold to give it a face-like shape. The eyes, nose, mouth and ears are simple bumps without real holes. Further, the skin is very thin and yellowish in color. Often the “heads” have eyebrows and mustaches formed by leaving some of the animal hair, but these features are grotesque because they appear to grow upside down.

F. Pre-Columbian Human Remains

Examples of pre-Columbian human remains include, but are not limited to, the following:

1. Mummies—Peruvian mummies were formed by natural mummification due to the conditions of burial; they have generally not been eviscerated. Usually found in a flexed position, with extremities tied together, resulting in a fetal position. In many cases, the cords used to tie the body in this position are preserved.

2. Modified Skulls—Many ancient Peruvian cultures practiced cranial modification. Such skulls are easily recognized by their unnatural shapes.

3. Skulls Displaying Trepanation—Trepanation is an operation performed on a skull; the resulting cuts, easily visible on a bare skull, take various forms. Cuts may be less easily distinguished if skin and hair are present:

a. Principal Techniques.

i. Straight cuts: these cuts are pointed at the ends and wider in the center. Openings made this way have a polygonal shape.

ii. Cylindrical-conical openings: the openings form a discontinuous line. The resulting opening has a serrated edge.

iii. Circular: generally made by a file. The resulting hole is round or elliptical, with beveled or straight edges. This is the most common form of trepanation.

4. Pre-Columbian Trophy Heads—Trophy heads can be identified by the hole made in the forehead to accommodate a carrying cord. When the skin is intact, the eyes and the mouth are held shut with cactus thorns. Finally, the occiput is missing since that is how the brain was removed when the trophy head was prepared.

5. Shrunken Trophy Heads from the Amazon—These heads have had the bones removed and then have been cured to shrink them. They are recognizable because they conserve all the traits of the original skin, including hair and hair follicles. The mouth is sewn shut and generally there are carrying cords attached. There may be an obvious seam to repair the cuts made when the skin was removed from the skull. Finally, the skin is thick (up to 2.5 mm.) and has a dark color. Trophy heads vary between 9.5 cm. and 15.5 cm. in height.

6. Tattoos—Tattooing in pre-Columbian Peru was practiced mainly on the wrists. Most common are geometric designs, including bands of triangles and rhomboids of a bluish color.

II. Ethnological Material

A. Objects Directly Related to the Pre-Columbian Past

1. Colonial Indigenous Textiles

a. Predominant materials: Cotton and wool.

b. Description: These textiles are characterized by the cut of the cloth, with the four borders or selvages finished on the same loom. Clothes are untailored and made from smaller pieces of convenient sizes that were then sewn together. Colonial indigenous textiles of the period are differentiated from pre-Columbian textiles primarily by their decoration: western motifs such as lions, heraldic emblems, and Spanish personages are incorporated into the designs; sometimes fibers distinct from cotton or wool (threads of silver, gold, and silk) are woven into the cloth; and the colors tend to be more vivid because the fabrics were made more recently. Another important characteristic of the clothing is the presence of tocapus or horizontal bands of small squares with anthropomorphic, zoomorphic, phytomorphic, and geometric ideographs and designs. Characteristic textiles include, but are not limited to, the following:

i. Panels—Rectangular or square pieces of various sizes.

ii. Anacus—Untailored woman's dress consisting of two or three long horizontal pieces of cloth sewn together that was wound around the body and held in place with “tupus” (pins).

iii. Unkus/Tunics—Men's shirt with an opening for the head. Sometimes has sleeves.

iv. Llicllas/Shoulder Mantles—Rectangular piece of cloth that women put over their shoulders and held in place by a tupu; standard size: 1 m. x 1.15 m. Generally has a tripartite design based on contrasting panels that alternate bands with decoration and bands with solid colors.

v. Chumpis/Belts—A woven belt, generally using tapestry technique.

2. Tupus

a. Material: Silver, gilded silver, copper, bronze. May have inlays of precious or semi-precious stones.

b. Description: Tupus were used to hold in place llicllas and anacus. They are pins with a round or elliptical head, with piercing, repoussé, and incised decorations. The difference between pre-Columbian and ethnological tupus can be seen in the introduction of Western designs, for example bi-frontal eagles and heraldic motifs.

3. Keros

a. Material: Wood.

b. Description: The most common form is a beaker-like cup with truncated base. After the Conquest, keros started to be decorated with pictorial scenes. The most frequently used techniques include incision, inlaying pigments in wood, and painting. Motifs include, but are not limited to, geometric designs, figures under a rainbow (an Inca symbol), ceremonial rituals, scenes of war, and agricultural scenes. Sometimes are in the form of human or zoomorphic heads.

4. Cochas or Cocchas

a. Material: Ceramic.

b. Description: Ceremonial vessels with two or more concentric interior compartments that are linked. Often decorated with volutes representing reptiles.

5. Aribalos

a. Material: Ceramic.

b. Description: The post-Conquest aribalos have a flat base, often using a glaze for finishing, and the decoration includes Inca and Hispanic motifs.

6. Pacchas

a. Material: Stone, ceramic.

b. Description: One of the characteristics of pacchas is that they have a drain, which is used to sprinkle an offering on the ground. They have pictorial or sculpted relief decorations symbolizing the benefits hoped for from the ritual.

B. Ecclesiastical Objects

In Colonial paintings and sculptures, European religious themes were reinterpreted by indigenous and mestizo artists who added their own images and other characteristics to create a distinct iconography.

Examples of ecclesiastical objects include, but are not limited to, the following:

1. Sculpture

Types of sculptures include, but are not limited to, the following:

a. Three-Dimensional Sculpted Images—In the Peruvian Colonial period, these were made of maguey (a soft wood) and occasionally of cedar or walnut.

b. Images Made of a Dough Composed of Sawdust, Glue, and Plaster—After they were sculpted, figures were dressed with cloth dipped in plaster.

c. Images to be Dressed—These are wooden frames resembling mannequins, with only the head and arms sculpted in wood (cedar or maguey). The images were dressed with embroidered clothes and jewelry. Frequently other elements were added, such as teeth and false eyelashes, wigs of real hair, eyes of colored glass, and palates made of glass.

2. Paintings—Catholic priests provided indigenous and mestizo artists with canvases and reproductions of European works of art, which the artists then “interpreted” with their own images and other indigenous characteristics. These may include symbolically associating Christian religious figures with indigenous divinities or rendering the figures with Andean facial characteristics or in traditional Andean costume. In addition, each church, convent, monastery, and town venerated an effigy of its patron or tutelar saint, some of them native to Peru.

3. Furniture

a. Altarpieces or Retablos—Architectonic structures made of stone, wood, or other material that are placed behind the altar and include attached paintings, sculptures, or other religious objects.

b. Reliquaries and Coffins—Containers made from wood, glass, or metal hold and exhibit sacred objects or human remains.

c. Church Furnishings—Furnishings used for liturgical rites include, but are not limited to pulpits, tabernacles, lecterns, confessionals, pews, choir stalls, chancels, baldachins, and palanquins.

4. Liturgical Objects

a. Objects Used for the Mass—Chalices, cibaries, candelabras, vials for christening or consecrated oil, reliquaries, vessels for wine and water (cruets), incense burners (censers), patens, monstrances, pelican sculptures, and crucifixes. Made out of silver, gold or gilded silver, often inlaid with pearls or precious stones. Techniques: casting, engraving, piercing, repoussé, filigree.

b. Fixtures for Sculpted Images—Areoles, crowns, scepters, halos, halos in the form of rays, and books carried by religious scholars and founders of religious orders.

c. Ecclesiastical Vestments—Some ecclesiastical vestments were commissioned by indigenous individuals or communities for the celebrations of their patron saint and thus are part of the religious legacy of a particular town. In such cases, the vestment may have the name of the donor, town, and/or church as well as the date.

d. Votive Offerings—These are representations of miracles or favors received from a particular saint. They can be made of different materials, usually metal or wood, and come in a variety of forms according to the type of favor received, usually representing parts of the human body in reference to the organ healed or agricultural products in recognition of a good harvest or increase in a herd.

C. Colonial Manuscripts, Documents, and Prints

1. Manuscripts and Documents—Original handwritten texts of limited circulation dating to the Colonial period (A.D. 1532-1821) made primarily on paper, parchment, and vellum. These include, but are not limited to, notary documents (e.g., wills, bill of sales, contracts), ecclesiastical materials, and documents of the city councils, Governorate of New Castile, the Governorate of New Toledo, the Vice Royalty of Peru, the Real Audiencia and Chancery of Lima, or the Council of the Indies. These can include single folios, collections of related documents bound with string, and music scores. Documents may contain a seal or ink stamp denoting a public or ecclesiastical institution. Because many of these documents are of an institutional or official nature, they may have multiple signatures, denoting scribes, witnesses, and/or other authorities. Documents are generally written in Spanish but may be composed in an indigenous language such as Quechua or Aymara.

2. Printed Texts and Images—Printed books, pamphlets, maps, and sheets of limited circulation made in small workshops during the Colonial period (A.D. 1532—1821). Prints were primarily produced using xylography (woodcuts) and chalcography (metal plates) on paper. Topics include, but are not limited to, government laws and ordinances, religious texts (sermons, manuals, prayer books, devotional sheets, etc.), grammar, and dictionaries. Common images include, but are not limited to, religious imagery, allegorical imagery, portraits, coats of arms, celebrations, funerals, tombs, architecture, and ornamental elements such as flowers, columns, volutes, and urns. Texts are generally written in Spanish but may be composed in an indigenous language such as Quechua or Aymara.

3. Printing Stamps and Plates—Stamps and plates include fonts, text, and images produced primarily using xylography (woodcuts) and chalcography (metal plates).

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, amend the table in paragraph (a) by revising the entry for Peru to read as follows:

§ 12.104g Specific items or categories designated by agreements or emergency actions.

(a) * * *

State party | Cultural property | Decision No.
* * * * * * *
Peru | Archaeological material of Peru ranging from approximately 12000 B.C. to A.D. 1532, and ethnological material of Peru ranging from approximately A.D. 1532 to 1821 | CBP Dec. 23-10
* * * * * * *

* * * * *

Robert F. Altneu,
Director, Regulations & Disclosure Law Division, Regulations & Rulings, Office of Trade, U.S. Customs and Border Protection.
Approved:
Thomas C. West, Jr.,
Deputy Assistant Secretary of the Treasury for Tax Policy.

[FR Doc. 2023-19768 Filed 9-12-23; 8:45 am]

BILLING CODE 9111-14-P